DEPARTMENT OF JUSTICE

National Advisory Committee on Violence Against Women; Notice of Meeting

AGENCY: Office on Violence Against Women, United States Department of Justice.

ACTION: Notice of Meeting.

SUMMARY: This notice sets forth the schedule and proposed agenda of the forthcoming public meeting of the National Advisory Committee on Violence Against Women (hereinafter “NAC”).

DATES: The meeting will take place on Monday, February 27, 2012 from 9 a.m. to 5:30 p.m. and Tuesday, February 28, 2012 from 1 p.m. to 5:30 p.m.

ADDRESSES: The meeting will take place at the Office on Violence Against Women, United States Department of Justice, Conference Room 1W.1201, 145 N Street NE., Washington, DC 20530.

The public is asked to pre-register by February 21, 2012 for the meeting due to security considerations and so that there is adequate space (see below for information on pre-registration).

FOR FURTHER INFORMATION CONTACT: Catherine Poston, Attorney Advisor, Office on Violence Against Women, United States Department of Justice, 145 N Street NE., Suite 10W 121, Washington, DC 20530; by telephone at: (202) 514-5430; email: Catherine.poston@usdoj.gov; or fax: (202) 305-2589. You may also view information about the NAC on the Office on Violence Against Women Web site at: http://www.ovw.usdoj.gov.

SUPPLEMENTARY INFORMATION: Notice of this meeting is required under section 10(a)(2) of the Federal Advisory Committee Act. The National Advisory Committee on Violence Against Women (NAC) was re-chartered on March 3, 2010 by the Attorney General. The purpose of this federal advisory committee is to provide advice and recommendations to the Department of Justice and the Department of Health and Human Services on how to improve the Nation's response to violence against women, with a specific focus on successful interventions with children and teens who witness and/or are victimized by domestic violence, dating violence, and sexual assault. The NAC brings together experts, advocates, researchers, and criminal justice professionals for the exchange of innovative ideas and the development of practical solutions to help the federal government address and prevent these serious problems. This federal advisory committee will develop recommendations for successful interventions with children and teens who witness and/or are victimized by domestic violence, dating violence, and sexual assault. The NAC members will also examine the relationship between children and teens who are witnesses to or victims of such violence and the overall public safety of communities across the country.

This is the fourth meeting of the NAC and will include facilitated discussions on the development of advice and recommendations to be presented by this federal advisory committee. The Director of the Office on Violence Against Women, the Honorable Susan B. Carbon, serves as the Designated Federal Official of the NAC. Lori Crowder will serve as a facilitator at this meeting.

The NAC is also welcoming public oral comment at this meeting and has reserved an estimated 30 minutes for this purpose. Time will be reserved for public comment on February 27 at 4:45 p.m. and on February 28 at 4:30 p.m. See the section below for information on reserving time for public comment.

ACCESS: This meeting will be open to the pubic but registration on a space available basis and for security reasons is required. All members of the public who wish to attend must register in advance of the meeting by February 21, 2012 by contacting Catherine Poston, Attorney Advisor, Office on Violence Against Women, United States Department of Justice, 145 N Street NE., Suite 10W 121, Washington, DC 20530; by telephone at: (202) 514-5430; email: Catherine.poston@usdoj.gov; or fax: (202) 305-2589. All attendees will be required to sign in and be processed through Security at the Lobby Visitors Desk. Please bring photo identification and allow extra time prior to the start of the meeting.

All members of the press who wish to attend and/or record any part of the meeting must register in advance of the meeting by February 21, 2012 by contacting Joan LaRocca, Public Affairs Specialist, Office on Violence Against Women, United States Department of Justice, 145 N Street NE., Suite 10W 121, Washington, DC 20530; by telephone at: (202) 307-6873; email: Joan.LaRocca@usdoj.gov. In addition to being processed through Security at the Lobby Visitors Desk, all members of the press are required to sign in at NAC meeting registration and must present government-issued photo I.D. (such as a driver's license) as well as valid media credentials. Please allow extra time prior to the start of the meeting for registering.

The meeting site is accessible to individuals with disabilities. Individuals who require special accommodation in order to attend the meeting should notify Catherine Poston no later than February 21, 2012.

Written Comments

Interested parties are invited to submit written comments by February 21, 2012 to Catherine Poston, Attorney Advisor, Office on Violence Against Women, United States Department of Justice, 145 N Street NE., Suite 10W 121, Washington, DC 20530; by telephone at: (202) 514-5430; email: Catherine.poston@usdoj.gov; or fax: (202) 305-2589.

Public Comment

Persons interested in participating during the public comment periods of the meeting are requested to reserve time on the agenda by contacting Catherine Poston, Attorney Advisor, Office on Violence Against Women, United States Department of Justice, 145 N Street NE., Suite 10W 121, Washington, DC 20530; by telephone at: (202) 514-5430; email: Catherine.poston@usdoj.gov; or fax: (202) 305-2589. Requests must include the participant's name, organization represented, if appropriate, and a brief description of the subject of the comments and should be made by February 21, 2012. Each participant will be permitted approximately 3 to 5 minutes to present comments, depending on the number of individuals reserving time on the agenda. Participants are also encouraged to submit written copies of their comments. Comments that are submitted to Catherine Poston, Attorney Advisor, Office on Violence Against Women, United States Department of Justice, 145 N Street NE., Suite 10W 121, Washington, DC 20530; by telephone at: (202) 514-5430; email: Catherine.poston@usdoj.gov; or fax: (202) 305-2589 will be circulated to NAC members prior to the meeting.

Given the expected number of individuals interested in presenting comments at the meeting, reservations should be made as soon as possible. Persons unable to obtain reservations to speak during the meeting are encouraged to submit written comments, which will be accepted at the meeting location or may be mailed to the NAC, to the attention of Catherine Poston, Attorney Advisor, Office on Violence Against Women, United States Department of Justice, 145 N Street NE., Suite 10W 121, Washington, DC 20530; by telephone at: (202) 514-5430; email: Catherine.poston@usdoj.gov; or fax: (202) 305-2589.

Dated: February 7, 2012.
Susan B. Carbon,
Director, Office on Violence Against Women.

[FR Doc. 2012-3374 Filed 2-13-12; 8:45 am]

BILLING CODE 4410-FX-P